OFFICE OF PERSONNEL MANAGEMENT

5 CFR Part 532

RIN 3206-AN37

Prevailing Rate Systems; Redefinition of the Asheville, NC, and Charlotte, NC, Appropriated Fund Federal Wage System Wage Areas

AGENCY: U.S. Office of Personnel Management.

ACTION: Proposed rule with request for comments.

SUMMARY: The U.S. Office of Personnel Management (OPM) is issuing a proposed rule that would redefine the geographic boundaries of the Asheville, NC, and Charlotte, NC, appropriated fund Federal Wage System (FWS) wage areas. The proposed rule would redefine Alexander and Catawba Counties, NC, from the Charlotte wage area to the Asheville wage area. These changes are based on a recent consensus recommendation of the Federal Prevailing Rate Advisory Committee (FPRAC) to best match the counties proposed for redefinition to a nearby FWS survey area. There are no FWS employees stationed in Alexander or Catawba Counties.

DATES: We must receive comments on or before May 27, 2016.

ADDRESSES: You may submit comments, identified by “RIN 3206-AN37,” using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, (202) 606-2858; email pay-leave-policy@opm.gov; or FAX: (202) 606-4264.

SUPPLEMENTARY INFORMATION: OPM is issuing a proposed rule that would redefine the geographic boundaries of the Asheville, NC, and Charlotte, NC, appropriated fund FWS wage areas. The proposed rule would redefine Alexander and Catawba Counties, NC, from the Charlotte wage area to the Asheville wage area.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting Metropolitan Statistical Areas (MSAs) for the purpose of defining a wage area, except in very unusual circumstances.

Alexander, Burke, Caldwell, and Catawba Counties, NC, comprise the Hickory-Lenoir-Morganton, NC, MSA. The Hickory-Lenoir-Morganton MSA is split between the Asheville, NC, and Charlotte, NC, wage areas. Burke and Caldwell Counties are part of the area of application of the Asheville wage area and Alexander and Catawba Counties are part of the area of application of the Charlotte wage area.

Based on an analysis of the regulatory criteria for Caldwell County, the core county in the Hickory-Lenoir-Morganton MSA, the entire Hickory-Lenoir-Morganton MSA would be defined to the Asheville wage area. When measuring to cities, the distance criterion does not favor one wage area more than another. When measuring to host installations, the distance criterion favors the Asheville wage area more than the Charlotte wage area. The commuting patterns criterion does not favor one wage area more than another. Caldwell County resembles the Asheville survey area more than the Charlotte survey area in terms of the overall population and employment and the kinds and sizes of private industrial establishments criteria.

Based on this analysis, we believe Caldwell County is appropriately defined to the Asheville wage area. OPM regulations at 5 CFR 532.211 permit splitting MSAs only in very unusual circumstances. There appear to be no unusual circumstances that would permit splitting the Bloomsburg-Berwick MSA. To comply with OPM regulations not to split MSAs, Alexander and Catawba Counties would be redefined to the Asheville wage area. The remaining county in the Hickory-Lenoir-Morganton MSA, Burke County, is already defined to the Asheville wage area. There are currently no FWS employees working in Alexander and Catawba Counties.

FPRAC, the national labor-management committee responsible for advising OPM on matters concerning the pay of FWS employees, recommended this change by consensus. This change would be effective on the first day of the first applicable pay period beginning on or after 30 days following publication of the final regulations.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Beth F. Cobert,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended by revising the wage area listings for the proposed rule that would redefine the geographic boundaries of the wage areas to read as follows:

* * * * *
NORTH CAROLINA
Asheville
Survey Area
North Carolina:
Buscombe
Haywood
Henderson
Madison
Transylvania
Area of Application. Survey area plus:
North Carolina:
Alexander
Avery
Burke
Caldwell
Catawba
Cherokee
Clay
Graham
Jackson
McDowell
Macon
Mitchell
Polk
Rutherford
Swain
Yancey
* * * * *
Charlotte
Survey Area
North Carolina:
Cabarrus
Gaston
Mecklenburg
Rowan
Union
Area of Application. Survey area plus:
North Carolina:
Anson
Cleveland
Iredell
Lincoln
Stanly
Wilkes
South Carolina:
Chester
Chesterfield
Lancaster
York
* * * * *

[FR Doc. 2016-09701 Filed 4-26-16; 8:45 am]

BILLING CODE 6325-39-P